DEPARTMENT OF THE INTERIOR

Fish and Wildlife Service

[FWS-R4-ES-2024-N023; FXES11130900000C2-201-FF09E32000]

Endangered and Threatened Wildlife and Plants; Initiation of 5-Year Status Reviews for 59 Southeastern Species

AGENCY: Fish and Wildlife Service, Interior.

ACTION: Notice of initiation of reviews; request for information.

SUMMARY: We, the U.S. Fish and Wildlife Service, are initiating 5-year status reviews under the Endangered Species Act for 59 animal and plant species. A 5-year review is an assessment of the best scientific and commercial data available at the time of the review to ensure the accuracy of the species' classification as endangered or threatened. We are requesting submission of any such information that has become available since the previous status review for each species.

DATES: To ensure consideration of your information in our reviews, we must receive your comments or information on or before August 5, 2024. However, we will continue to accept new information about any of the species at any time.

ADDRESSES: For instructions on how to submit information for a species, see the table in the SUPPLEMENTARY INFORMATION section.

FOR FURTHER INFORMATION CONTACT: To request information on specific species, contact the appropriate person in the table in the SUPPLEMENTARY INFORMATION section or, for general information, contact Aaron Valenta, via phone at (404) 679-4144, via email at aaron_valenta@fws.gov, or via U.S. mail at U.S. Fish and Wildlife Service, 1875 Century Boulevard, Atlanta, GA 30345. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, are initiating 5-year status reviews under the Endangered Species Act of 1973, as amended (ESA; 16 U.S.C. 1531 et seq.), for 36 animal species and 23 plant species. A 5-year status review is based on the best scientific and commercial data available at the time of the review; therefore, we are requesting submission of any such information that has become available since the last review for the species, particularly information on the status, threats, and recovery of the species.

Why do we conduct a 5-year review?

Under the ESA, we maintain Lists of Endangered and Threatened Wildlife and Plants (which we collectively refer to as the List) in title 50 of the Code of Federal Regulations (CFR) at 50 CFR 17.11 (for wildlife) and 50 CFR 17.12 (for plants). Section 4(c)(2)(A) of the ESA requires us to review each listed species' status at least once every 5 years. Our regulation at 50 CFR 424.21 requires that we publish a notice in the Federal Register announcing that a species is under active review; however, we may review the status of the species at any time based upon a petition or other information available to us. For additional information about 5-year reviews, refer to our fact sheet at: https://www.fws.gov/project/five-year-status-reviews.

What information do we consider in our review?

A 5-year review considers the best scientific and commercial data that have become available since the current listing determination or most recent status review of each species, such as:

(A) Species biology, including but not limited to population trends, distribution, abundance, demographics, habitat requirements, tolerance thresholds, and genetics;

(B) Habitat conditions, including but not limited to amount, distribution, and suitability;

(C) Conservation measures that have been or are planned to be implemented to benefit the species;

(D) Current threats and trends in relation to the five listing factors (as defined in section 4(a)(1) of the ESA); and

(E) Other new information, data, or corrections, including but not limited to taxonomic or nomenclatural changes, identification of erroneous information contained in the List, and improved analytical methods.

New information will be considered in the 5-year review and ongoing recovery programs for the species.

Which species are under review?

This notice announces 5-year status reviews for the species listed in the table below.

Common name | Scientific name | Listing status | Locations where the species is known to occur | Final listing rule (Federal Register citation and publication date) | Contact person, email, phone | Contact's mailing address
ANIMALS
Mammals
Choctawhatchee beach mouse | Peromyscus polionotus allophrys | E | FL | 50 FR 23872; June 6, 1985. | Lourdes Mena, Florida_5YR@fws.gov, 352-749-2462. | USFWS, 1601 Balboa Ave., Panama City, FL 32405.
Southeastern beach mouse | Peromyscus polionotus niveiventris | T | FL | 54 FR 20598; May 12, 1989. | Lourdes Mena, Florida_5YR@fws.gov, 352-749-2462. | USFWS, 7915 Baymeadows Way, Suite 200, Jacksonville, FL 32256.
St. Andrew beach mouse | Peromyscus polionotus peninsularis | E | FL | 63 FR 70053; December 18, 1998. | Lourdes Mena, Florida_5YR@fws.gov, 352-749-2462. | USFWS, 1601 Balboa Ave., Panama City, FL 32405.
Birds
Florida scrub-jay | Aphelocoma coerulescens | T | FL | 52 FR 20715; June 3, 1987. | Lourdes Mena, Florida_5YR@fws.gov, 352-749-2462. | USFWS, 7915 Baymeadows Way, Suite 200, Jacksonville, FL 32256.
Reptiles
Ringed map turtle | Graptemys oculifera | T | LA, MS | 51 FR 45907; December 23, 1986. | Luke Pearson, luke_pearson@fws.gov, 601-321-1125. | USFWS, 6578 Dogwood View Pkwy., Jackson, MS 39213.
Fishes
Alabama sturgeon | Scaphirhynchus suttkusi | E | AL | 65 FR 26438; May 5, 2000. | Scott Lamont, scott_lamont@fws.gov, 251-441-5857. | USFWS, 1208B Main Street, Daphne, AL 36526.
Barrens topminnow | Fundulus julisia | E | TN | 84 FR 56131; October 21, 2019. | Andy Ford, anthony_ford@fws.gov, 931-319-7747. | USFWS, 446 Neal Street, Cookeville, TN 38501.
Bayou darter | Etheostoma rubrum | T | MS | 40 FR 44149; September 25, 1975. | Matt Wagner, matthew_wagner@fws.gov, 610-763-9074. | USFWS, 6578 Dogwood View Pkwy., Jackson, MS 39213.
Bluemask (=jewel) darter | Etheostoma akatulo | E | TN | 58 FR 68480; December 27, 1993. | Andy Ford, anthony_ford@fws.gov, 931-319-7747. | USFWS, 446 Neal Street, Cookeville, TN 38501.
Conasauga logperch | Percina jenkinsi | E | GA, TN | 50 FR 31597; August 5, 1985. | Martha Zapata, martha_zapata@fws.gov, 706-535-2118. | USFWS, RG Stephens, Jr. Federal Building, 355 East Hancock Ave., Athens, GA 30601.
Rush darter | Etheostoma phytophilum | E | AL | 76 FR 48722; August 9, 2011. | Jennifer Grunewald, jennifer_grunewald@fws.gov, 251-424-0635. | USFWS, 1208B Main Street, Daphne, AL 36526.
Waccamaw silverside | Menidia extensa | T | NC | 52 FR 11277; April 8, 1987. | Pete Benjamin, Raleigh_ES@fws.gov, 984-308-0802. | USFWS, P.O. Box 33726, Raleigh, NC 27636-3726.
Yellowfin madtom | Noturus flavipinnis | T | TN, VA | 42 FR 45526; September 9, 1977. | Andy Ford, anthony_ford@fws.gov, 931-319-7747. | USFWS, 446 Neal Street, Cookeville, TN 38501.
Clams
Alabama lampmussel | Lampsilis virescens | E | AL, MS, TN | 41 FR 24062; June 14, 1976. | Erin Sasser, erin_sasser@fws.gov, 251-441-5842. | USFWS, 1208B Main Street, Daphne, AL 36526.
Arkansas fatmucket | Lampsilis powelli | T | AR | 55 FR 12797; April 5, 1990. | Chris Davidson, chris_davidson@fws.gov, 501-513-4481. | USFWS, 110 South Amity Road, Suite 300, Conway, AR 72032.
Birdwing pearlymussel | Lemiox rimosus | E | TN, VA | 41 FR 24062; June 14, 1976. | Andy Ford, anthony_ford@fws.gov, 931-319-7747. | USFWS, 446 Neal Street, Cookeville, TN 38501.
Cracking pearlymussel | Hemistena lata | E | AL, TN, VA | 54 FR 39850; September 28, 1989. | Andy Ford, anthony_ford@fws.gov, 931-319-7747. | USFWS, 446 Neal Street, Cookeville, TN 38501.
Cumberland bean (pearlymussel) | Villosa trabalis | E | KY, TN | 41 FR 24062; June 14, 1976. | Taylor Fagin, taylor_fagin@fws.gov, 502-653-0541. | USFWS, 330 W Broadway, Ste. 265, Frankfort, KY 40601.
Cumberlandian combshell | Epioblasma brevidens | E | AL, KY, MS, TN, VA | 62 FR 1647; January 10, 1997. | Andy Ford, anthony_ford@fws.gov, 931-319-7747. | USFWS, 446 Neal Street, Cookeville, TN 38501.
Dromedary pearlymussel | Dromus dromas | E | AL, KY, TN, VA | 41 FR 24062; June 14, 1976. | Andy Ford, anthony_ford@fws.gov, 931-319-7747. | USFWS, 446 Neal Street, Cookeville, TN 38501.
Fat pocketbook | Potamilus capax | E | AR, IL, IN, KY, LA, MS, MO, TN | 41 FR 24062; June 14, 1976. | Matt Wagner, matthew_wagner@fws.gov, 610-763-9073. | USFWS, 6578 Dogwood View Pkwy., Jackson, MS 39213.
Gulf moccasinshell | Medionidus penicillatus | E | AL, FL, GA | 63 FR 12664; March 16, 1998. | Sandy Abbott, sandy_abbott@fws.gov, 706-662-4615. | USFWS, RG Stephens, Jr. Federal Building, 355 East Hancock Ave., Athens, GA 30601.
Littlewing pearlymussel | Pegias fabula | E | AL, KY, NC, TN, VA | 53 FR 45861; November 14, 1988. | Taylor Fagin, taylor_fagin@fws.gov, 502-653-0541. | USFWS, 330 W Broadway, Ste. 265, Frankfort, KY 40601.
Neosho mucket | Lampsilis rafinesqueana | E | AR, KS, MS, OK | 78 FR 57076; September 17, 2013. | Chris Davidson, chris_davidson@fws.gov, 501-513-4481. | USFWS, 110 South Amity Road, Suite 300, Conway, AR 72032.
Ochlockonee moccasinshell | Medionidus simpsonianus | E | FL, GA | 63 FR 12664; March 16, 1998. | Lourdes Mena, Florida_5YR@fws.gov, 352-749-2462. | USFWS, 1601 Balboa Ave., Panama City, FL 32405.
Oval pigtoe | Pleurobema pyriforme | E | AL, FL, GA | 63 FR 12664; March 16, 1998. | Lourdes Mena, Florida_5YR@fws.gov, 352-749-2462. | USFWS, 1601 Balboa Ave., Panama City, FL 32405.
Purple bankclimber (mussel) | Elliptoideus sloatianus | T | AL, FL, GA | 63 FR 12664; March 16, 1998. | Lourdes Mena, Florida_5YR@fws.gov, 352-749-2462. | USFWS, 1601 Balboa Ave., Panama City, FL 32405.
Rabbitsfoot | Quadrula cylindrica cylindrica | T | AL, AR, IL, IN, KS, KY, LA, MS, MO, OH, OK, PA, TN | 78 FR 57076; September 17, 2013. | Chris Davidson, chris_davidson@fws.gov, 501-513-4481. | USFWS, 110 South Amity Road, Suite 300, Conway, AR 72032.
Shinyrayed pocketbook | Hamiota subangulata | E | AL, FL, GA | 63 FR 12664; March 16, 1998. | Sandy Abbott, sandy_abbott@fws.gov, 706-662-4615. | USFWS, RG Stephens, Jr. Federal Building, 355 East Hancock Ave., Athens, GA 30601.
Snails
Armored marstonia (snail) | Marstonia pachyta | E | AL | 65 FR 10033; February 25, 2000. | Erin Sasser, erin_sasser@fws.gov, 251-441-5842. | USFWS, 1208B Main Street, Daphne, AL 36526.
Interrupted rocksnail | Leptoxis foremani | E | AL, GA | 75 FR 67512; November 2, 2010. | Erin Sasser, erin_sasser@fws.gov, 251-441-5842. | USFWS, 1208B Main Street, Daphne, AL 36526.
Noonday snail | Mesodon clarki nantahala | T | NC | 43 FR 28932; July 3, 1978. | Jeff Quast, jeffrey_quast@fws.gov, 828-258-3939. | USFWS, 160 Zillicoa St., Asheville, NC 28801.
Royal marstonia (snail) | Marstonia ogmorhaphe | E | TN | 59 FR 17994; April 15, 1994. | Andy Ford, anthony_ford@fws.gov, 931-319-7747. | USFWS, 446 Neal Street, Cookeville, TN 38501.
Slender campeloma | Campeloma decampi | E | AL | 65 FR 10033; February 25, 2000. | Erin Sasser, erin_sasser@fws.gov, 251-441-5842. | USFWS, 1208B Main Street, Daphne, AL 36526.
Tulotoma snail | Tulotoma magnifica | T | AL | 56 FR 797; January 9, 1991. | Erin Sasser, erin_sasser@fws.gov, 251-441-5842. | USFWS, 1208B Main Street, Daphne, AL 36526.
Insects
Saint Francis' satyr butterfly | Neonympha mitchellii francisci | E | NC | 60 FR 5264; January 26, 1995. | Pete Benjamin, Raleigh_ES@fws.gov, 984-308-0802. | Saint Francis' satyr butterfly
PLANTS
Flowering Plants
Beach jacquemontia | Jacquemontia reclinata | E | FL | 58 FR 62046; November 24, 1993. | Lourdes Mena, Florida_5YR@fws.gov, 352-749-2462. | USFWS, 777 37th St., Suite D-101, Vero Beach, FL 32960.
Bunched arrowhead | Sagittaria fasciculata | E | NC, SC | 44 FR 43700; July 25, 1979. | Jeff Quast, jeffrey_quast@fws.gov, 828-258-3939. | USFWS, 160 Zillicoa St., Asheville, NC 28801.
Carter's mustard | Warea carteri | E | FL | 52 FR 2227; January 21, 1987. | Lourdes Mena, Florida_5YR@fws.gov, 352-749-2462. | USFWS, 777 37th St., Suite D-101, Vero Beach, FL 32960.
Cooley's meadowrue | Thalictrum cooleyi | E | FL, GA, NC | 54 FR 5935; February 7, 1989. | Pete Benjamin, Raleigh_ES@fws.gov, 984-308-0802. | USFWS, P.O. Box 33726, Raleigh, NC 27636-3726.
Green pitcher-plant | Sarracenia oreophila | E | AL, GA, NC | 44 FR 54922; September 21, 1979. | Scott Wiggers, marion_wiggers@fws.gov, 228-475-0765. | USFWS, 6578 Dogwood View Pkwy., Jackson, MS 39213.
Heller's blazingstar | Liatris helleri | T | NC | 52 FR 44397; November 19, 1987. | Jeff Quast, jeffrey_quast@fws.gov, 828-258-3939. | USFWS, 160 Zillicoa St., Asheville, NC 28801.
Highlands scrub hypericum | Hypericum cumulicola | E | FL | 52 FR 2227; January 21, 1987. | Lourdes Mena, Florida_5YR@fws.gov, 352-749-2462. | USFWS, 777 37th St., Suite D-101, Vero Beach, FL 32960.
Kentucky glade cress | Leavenworthia exigua var. laciniata | T | KY | 79 FR 25683; May 6, 2014. | Mike Floyd, mike_floyd@fws.gov, 502-229-5433. | USFWS, 330 W Broadway, Ste. 265, Frankfort, KY 40601.
Kral's water-plantain | Sagittaria secundifolia | T | AL, GA | 55 FR 13907; April 13, 1990. | Erin Lentz, erin_lentz@fws.gov, 251-298-3853. | USFWS, 1208B Main Street, Daphne, AL 36526.
Lakela's mint | Dicerandra immaculata | E | FL | 50 FR 20212; May 15, 1985. | Lourdes Mena, Florida_5YR@fws.gov, 352-749-2462. | USFWS, 777 37th St., Suite D-101, Vero Beach, FL 32960.
Palo de nigua | Cornutia obovata | E | PR | 53 FR 11610; April 7, 1988. | Marielle Peschiera, marielle_peschiera@fws.gov, 786-244-0081. | USFWS, P.O. Box 491, Boquerón, PR 00622.
Palo de Ramón | Banara vanderbiltii | E | PR | 52 FR 1459; January 14, 1987. | Jose Cruz, jose_cruz-burgos@fws.gov, 786-244-0081. | USFWS, P.O. Box 491, Boquerón, PR 00622.
Pigeon wings | Clitoria fragrans | T | FL | 58 FR 25746; April 27, 1993. | Lourdes Mena, Florida_5YR@fws.gov, 352-749-2462. | USFWS, 777 37th St., Suite D-101, Vero Beach, FL 32960.
Pygmy fringe-tree | Chionanthus pygmaeus | E | FL | 52 FR 2227; January 21, 1987. | Lourdes Mena, Florida_5YR@fws.gov, 352-749-2462. | USFWS, 777 37th St., Suite D-101, Vero Beach, FL 32960.
Schweinitz's sunflower | Helianthus schweinitzii | E | NC, SC | 56 FR 21087; May 7, 1991. | Jeff Quast, jeffrey_quast@fws.gov, 828-258-3939. | USFWS, 160 Zillicoa St., Asheville, NC 28801.
Scrub mint | Dicerandra frutescens | E | FL | 50 FR 45621; November 1, 1985. | Lourdes Mena, Florida_5YR@fws.gov, 352-749-2462. | USFWS, 777 37th St., Suite D-101, Vero Beach, FL 32960.
Spreading avens | Geum radiatum | E | NC, TN, VA | 55 FR 12793; April 5, 1990. | Jeff Quast, jeffrey_quast@fws.gov, 828-258-3939. | USFWS, 160 Zillicoa St., Asheville, NC 28801.
Tiny polygala | Polygala smallii | E | FL | 50 FR 29345; July 18, 1985. | Lourdes Mena, Florida_5YR@fws.gov, 352-749-2462. | USFWS, 777 37th St., Suite D-101, Vero Beach, FL 32960.
Wheeler's peperomia | Peperomia wheeleri | E | PR, VI | 52 FR 1459; January 14, 1987. | Jose Cruz, jose_cruz-burgos@fws.gov, 786-244-0081. | USFWS, P.O. Box 491, Boquerón, PR 00622.
White birds-in-a-nest | Macbridea alba | T | FL | 57 FR 19813; May 8, 1992. | Lourdes Mena, Florida_5YR@fws.gov, 352-749-2462. | USFWS, 1601 Balboa Ave., Panama City, FL 32405.
Whorled sunflower | Helianthus verticillatus | E | AL, GA, MS, TN | 79 FR 44712; August 1, 2014. | Scott Wiggers, marion_wiggers@fws.gov, 228-475-0765. | USFWS, 6578 Dogwood View Pkwy., Jackson, MS 39213.
Conifers and Allies
Florida torreya | Torreya taxifolia | E | FL, GA | 49 FR 2783; January 23, 1984. | Lourdes Mena, Florida_5YR@fws.gov, 352-749-2462. | USFWS, 1601 Balboa Ave., Panama City, FL 32405.
Lichens
Rock gnome lichen | Gymnoderma lineare | E | GA, NC, SC, TN | 60 FR 3557; January 18, 1995. | Jeff Quast, jeffrey_quast@fws.gov, 828-258-3939. | USFWS, 160 Zillicoa St., Asheville, NC 28801.

Request for New Information

To ensure that a species' 5-year review is based on the best available scientific and commercial information, we request new information from all sources. Please use the contact information listed in the table above that is associated with the species for which you are submitting information. If you submit information, please support it with documentation such as maps, bibliographic references, methods used to gather and analyze the data, and/or copies of any pertinent publications, reports, or letters by knowledgeable sources.

How do I ask questions or provide information?

If you wish to provide information for any species listed above, please submit your comments and materials to the appropriate contact in the table above. You may also direct questions to those contacts (also see FOR FURTHER INFORMATION CONTACT).

Public Availability of Comments

Before including your address, phone number, email address, or other personal identifying information in your submission, you should be aware that your entire submission—including your personal identifying information—may be made publicly available at any time. Although you can request that personal information be withheld from public review, we cannot guarantee that we will be able to do so.

Completed and Active Reviews

A list of all completed and currently active 5-year status reviews can be found at https://ecos.fws.gov/ecp/report/species-five-year-review.

Authority

This document is published under the authority of the Endangered Species Act of 1973, as amended (16 U.S.C. 1531 et seq.).

Michael Oetker,
Regional Director, Southeast Region, U.S. Fish and Wildlife Service.

[FR Doc. 2024-12370 Filed 6-5-24; 8:45 am]

BILLING CODE 4333-15-P